DEPARTMENT OF ENERGY

Federal Energy Regulatory Commission

[Docket No. RP03-495-000]

Total Peaking Services, L.L.C.; Notice of Compliance Filing

June 3, 2003.

Take notice that on May 30, 2003, Total Peaking Services, L.L.C. (TPS), tendered for filing as part of its FERC Gas Tariff, Original Volume No. 1, the tariff sheets listed on Appendix A to the filing with an effective date of July 1, 2003.

TPS states that the purpose of this filing is to comply with the Federal Energy Regulatory Commission's orders in Docket No. RM96-1 incorporating the business practice standards promulgated by the Wholesale Gas Quadrant (WGQ) of the North American Energy Standards Board (NAESB) through Version 1.6, together with the WGQ-recommended standards R02002 and R02002-2 governing partial day recalls and to change the name of the contact individual. In addition, TPS requests an extension of time for implementing certain standards and related electronic Data Sets until 180 days after a person first requests use thereof.

Any person desiring to be heard or to protest said filing should file a motion to intervene or a protest with the Federal Energy Regulatory Commission, 888 First Street, NE., Washington, DC 20426, in accordance with sections 385.214 or 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 11, 2003.

Magalie R. Salas,
Secretary.

[FR Doc. 03-14516 Filed 6-9-03; 8:45 am]

BILLING CODE 6717-01-P